DEPARTMENT OF TRANSPORTATION

Federal Aviation Administration

14 CFR Part 39

[Docket No. 99-NE-17-AD; Amendment 39-12557; AD 2001-25-04]

RIN 2120-AA64

Airworthiness Directives; Honeywell International Inc. Models LTS101-600A-2 and LTS101-600A-3 Turboshaft Engines; and LTP101-600A-1A and LTP101-700A-1A Turboprop Engines

AGENCY: Federal Aviation Administration, DOT.

ACTION: Final rule.

SUMMARY: This amendment adopts a new airworthiness directive (AD), that is applicable to Honeywell International Inc. (formerly AlliedSignal Inc. and Textron Lycoming) Models LTS101-600A-2 and LTS101-600A-3 turboshaft engines; and LTP101-600A-1A and LTP101-700A-1A turboprop engines. This amendment requires replacing certain fuel controls that have beryllium-copper bellows with improved fuel controls that incorporate Inconel 718 stainless steel welded bellows. This amendment is prompted by a report of an uncommanded power loss on a Textron Lycoming LTS101 engine due to a corrosion damaged fuel control bellows. The actions specified by this AD are intended to prevent the engine from reducing the fuel flow to minimum flow resulting in an uncommanded power loss.

DATES: Effective date January 23, 2002.

ADDRESSES: The information in this AD may be examined at the Federal Aviation Administration (FAA), New England Region, Office of the Regional Counsel, 12 New England Executive Park, Burlington, MA.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION: A proposal to amend part 39 of the Federal Aviation Regulations (14 CFR part 39) to include an AD that is applicable to Honeywell International Inc. (formerly AlliedSignal Inc. and Textron Lycoming) Models LTS101-600A-2 and LTS101-600A-3 turboshaft engines; and LTP101-600A-1A and LTP101-700A-1A turboprop engines was published in the Federal Register on March 12, 2001 (66 FR 14345). That action proposed to require replacement of fuel controls with the following part numbers with an improved design fuel control that incorporates an Inconel 718 stainless steel welded bellows.

4-301-098-01

4-301-098-04

4-301-098-10

4-301-098-15

4-301-288-01

4-301-288-04

4-303-023-01

4-303-023-02

4-303-023-03

4-303-023-04

4-303-033-01

4-303-033-02

4-303-033-04

Comments

Interested persons have been afforded an opportunity to participate in the making of this amendment. No comments were received on the proposal or the FAA's determination of the cost to the public. The FAA has determined that air safety and the public interest require the adoption of the rule as proposed.

Economic Analysis

The FAA estimates that 40 engines installed on aircraft of U.S. registry would be affected by this proposed AD and that it would take approximately 3 work hours per engine to accomplish the proposed actions. The average labor rate is $60 per work hour. There are no required parts costs. Based on these figures, the total cost effect of the proposed AD on U.S. operators is estimated to be $7,200.

Regulatory Analysis

This final rule does not have federalism implications, as defined in Executive Order 13132, because it would not have a substantial direct effect on the States, on the relationship between the national government and the States, or on the distribution of power and responsibilities among the various levels of government. Accordingly, the FAA has not consulted with state authorities prior to publication of this final rule.

For the reasons discussed above, I certify that this action (1) is not a “significant regulatory action” under Executive Order 12866; (2) is not a “significant rule” under the DOT Regulatory Policies and Procedures (44 FR 11034, February 26, 1979); and (3) if promulgated, will not have a significant economic effect, positive or negative, on a substantial number of small entities under the criteria of the Regulatory Flexibility Act. A final evaluation has been prepared for this action and it is contained in the Rules Docket. A copy of it may be obtained by contacting the Rules Docket at the location provided under the caption ADDRESSES.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2001-25-04 Honeywell International Inc.: Amendment 39-12557. Docket No. 99-NE-17-AD.

Applicability

This airworthiness directive (AD) is applicable to Honeywell International Inc. (formerly AlliedSignal Inc. and Textron Lycoming) Models LTS101-6000A-2 and LTS101-600A-3 turboshaft engines; and LTP101-600A-1A and LTP101-700A-1A turboprop engines with fuel controls with the following part numbers (P/N's) installed:

Table 1.—Fuel Control P/N's
Engine Model No. | Fuel Control P/N
LTS101-600A-2 | 4-301-098-01, 4-301-098-04, 4-301-098-10, 4-301-098-15.
LTS101-600A-3 | 4-301-288-01, 4-301-288-04.
LTP101-600A-1A | 4-303-023-01, 4-303-023-02, 4-303-023-03, 4-303-023-04.
LTP101-700A-1A | 4-303-033-01, 4-303-033-02, 4-303-033-04.

These engines are used on, but not limited to, Aerospatiale AS350 helicopters and Air Tractor AT-302, Page Thrush, Piaggio P.166-DL3, and Riley International R421 airplanes.

Note 1: This AD applies to each engine identified in the preceding applicability provision, regardless of whether it has been modified, altered, or repaired in the area subject to the requirements of this AD. For engines that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance

Compliance with this AD is required at the next replacement of the fuel control or within 12 calendar months after the effective date of this AD, whichever occurs first.

To prevent the engine from reducing the fuel flow to minimum flow resulting in an uncommanded power loss:

(a) Remove any fuel control that has one of the P/N's listed in Table 1 of this AD, and replace with a fuel control that does not have one of the part numbers listed in Table 1 of this AD.

Alternative Methods of Compliance

(b) An alternative method of compliance or adjustment of the compliance time that provides an acceptable level of safety may be used if approved by the Manager, Los Angles Aircraft Certification Office (LAACO). Operators must submit their request through an appropriate FAA Principal Maintenance Inspector, who may add comments and then send it to the Manager, LAACO.

Note 2: Information concerning the existence of approved alternative methods of compliance with this airworthiness directive, if any, may be obtained from the LAACO.

Special Flight Permits

(c) Special flight permits may be issued in accordance §§ 21.197 and 21.199 of the Federal Aviation Regulations (14 CFR 21.197 and 21.199) to operate the aircraft to a location where the requirements of this AD can be accomplished.

Effective Date

(d) This amendment becomes effective on January 23, 2002.

Issued in Burlington, Massachusetts, on December 7, 2001.
Jay J. Pardee,
Manager, Engine and Propeller Directorate, Aircraft Certification Service.

[FR Doc. 01-30951 Filed 12-18-01; 8:45 am]

BILLING CODE 4910-13-P